DEPARTMENT OF ENERGY

Agency Information Collection Extension

AGENCY: U.S. Department of Energy.

ACTION: Submission for Office of Management and Budget (OMB) review; comment request.

SUMMARY: The Department of Energy (DOE) has submitted an information collection package to the OMB for extension under the provisions of the Paperwork Reduction Act of 1995 ¹. The package requests a three-year extension of its Security, OMB Control Number 1910-1800. This information collection request covers information necessary for DOE management to exercise management oversight and control over their contractors. The collections consist of information (1) for the nuclear materials control and accountability for DOE-owned and -leased facilities and DOE-owned nuclear materials at other facilities that are exempt from licensing by the NRC; (2) for the protection of classified information, special nuclear materials and other national security assets (DOE site self-assessments and site security plans); and (3) collection of Foreign Ownership, Control or Influence data from bidders on DOE contracts requiring personnel security clearances.

¹ 44 U.S.C., 3501 et seq.

DATES: Comments regarding this collection must be received on or before October 17, 2008. If you anticipate that you will be submitting comments, but find it difficult to do so within that period of time allowed by this notice, please advise the OMB Desk Officer of your intention to make a submission as soon as possible. The Desk Officer may be telephoned at 202-395-4650.

ADDRESSES: Written comments may be sent to the:

DOE Desk Officer, Office of Information and Regulatory Affairs, Office of Management and Budget, New Executive Office Building, Room 10102, 735 17th Street., NW., Washington, DC 20503;

And to

Kathy Murphy, HS-1.23 Germantown Building, U.S. Department of Energy, 1000 Independence Ave. SW., Washington, DC 20585-1290;

or by fax at 301-903-5492 or by e-mail at Kathy.murphy@hq.doe.gov.

FOR FURTHER INFORMATION CONTACT: Requests for additional information or copies of the information collection instrument and instructions should be directed to the addressees listed above in ADDRESSES.

SUPPLEMENTARY INFORMATION: This package contains: (1) OMB No. 1910-1800; (2) Package Title: Security; (3) Type of Review: renewal; (4) Purpose: for DOE management to exercise management oversight and control over its contractors; (5) Respondents: 75,858; (6) Estimated Number of Burden Hours: 265,564.

Statutory Authority: Department of Energy Organization Act, Public Law 95-91, of August 4, 1977.

Issued in Washington, DC, on August 28, 2008.
Lesley A. Gasperow,
Director, Office of Resource Management, Office of Health, Safety and Security.

[FR Doc. E8-21676 Filed 9-16-08; 8:45 am]

BILLING CODE 6450-01-P